FEDERAL MARITIME COMMISSION

Notice of Agreement(s) Filed

The Commission hereby gives notice of the filing of the following agreement(s) under the Shipping Act of 1984. Interested parties can review or obtain copies of agreements at the Washington, DC offices of the Commission, 800 North Capitol Street NW, Room 962. Interested parties may submit comments on an agreement to the Secretary, Federal Maritime Commission, Washington, DC 20573, within 10 days of the date this notice appears in the Federal Register.

Agreement No.: 011512-003.

Title: Slot Charter Agreement Between Hyundai Merchant Marine Co., Ltd. and MSC.

Parties:

Hyundai Merchant Marine Co., Ltd.

Mediterranean Shipping Co., S.A.

Synopsis: The proposed agreement modification clarifies and updates the parties' understandings under their currently effective agreement.

Agreement No.: 011709.

Title: CCNI/CTE Space Charter Agreement.

Parties:

Compania Chilena de Navegacion Interoceanica S.A.

Compania Transatlantica Espanola S.A.

Synopsis: The proposed agreement authorizes the parties to charter vessel space to each other in the trade between Puerto Rico and ports in Europe, the Mediterranean, Chile, Peru, Ecuador, Colombia, Panama, and Venezuela. The parties request expedited review.

Agreement No.: 201102.

Title: License Agreement Between SC State Ports Authority and Charleston International.

Parties:

South Carolina State Ports Authority

Charleston International Ports, LLC.

Synopsis: The agreement grants Charleston International a 30-year license to operate a breakbulk marine terminal. The parties have requested expedited handling for this agreement.

By Order of the Federal Maritime Commission.
Dated: May 19, 2000.
Bryant L. VanBrakle,
Secretary.

[FR Doc. 00-13089 Filed 5-24-00; 8:45 am]

BILLING CODE 6730-01-P